Proclamation 9183 of September 30, 2014

National Substance Abuse Prevention Month, 2014

By the President of the United States of America

A Proclamation

Substance abuse disrupts our families, schools, and communities and limits the success of young people across our country. It destroys relationships and stands in the way of academic achievement. Every day, thousands of young Americans try drugs or alcohol for the first time, and for many, this decision will have a profound impact on their health and well-being. This month, we join with families, schools, and local leaders to promote safe and healthy neighborhoods and help ensure all our children have the support and resources they need to achieve their full potential.

Preventing substance use before it begins is the most effective way to eliminate the damage caused by drugs and the abuse of alcohol. That is why my Administration's 2014 National Drug Control Strategy supports evidence-based education and outreach programs that connect with young people at schools, on college campuses, and in the workplace. This year, through the Drug-Free Communities Support Program, we are investing in 680 local coalitions that are working to reduce substance use in cities and towns across our country. These partners raise awareness of the harms associated with drug and alcohol use and create supportive environments that foster good decisionmaking.

Substance use affects everyone, and each of us can play a part in helping the next generation make choices that support physical, mental, behavioral, and emotional health. Parents, mentors, and community members can model a healthy lifestyle and should talk with kids early and often about the dangers of drug and alcohol use. During National Substance Abuse Prevention Month, we recognize all those who work to prevent substance use in our neighborhoods, and we renew our commitment to building a safer, drug-free America. Together, we can make sure all children have the opportunity to pursue happy, fulfilling, and productive lives.

NOW, THEREFORE, I, BARACK OBAMA, President of the United States of America, by virtue of the authority vested in me by the Constitution and the laws of the United States, do hereby proclaim October 2014 as National Substance Abuse Prevention Month. I call upon all Americans to engage in appropriate programs and activities to promote comprehensive substance abuse prevention efforts within their communities.

IN WITNESS WHEREOF, I have hereunto set my hand this thirtieth day of September, in the year of our Lord two thousand fourteen, and of the Independence of the United States of America the two hundred and thirty-ninth.

[FR Doc. 2014-23871

Filed 10-2-14; 11:15 am]

Billing code 3295-F4